NATIONAL AERONAUTICS AND SPACE ADMINISTRATION

[Notice: (07-059)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to Desk Officer for NASA; Office of Information and Regulatory Affairs; Office of Management and Budget; Room 10236; New Executive Office Building; Washington, DC 20503.

FOR FURTHER INFORMATION CONTACT: Requests for additional information or copies of the information collection instrument(s) and instructions should be directed to Mr. Walter Kit, NASA PRA Officer, NASA Headquarters, 300 E Street SW., JE000, Washington, DC 20546, (202) 358-1350, Walter.Kit-1@nasa.gov.

SUPPLEMENTARY INFORMATION:

I. Abstract

This is an online application form for the Exploration Systems Mission Directorate-Space Grant Consortia Faculty Project. NASA must select candidates via a competitive process, and in order to do so must collect personal information in an application. The voluntary respondents will be full-time professors that are employed at a university in the United States or Puerto Rico.

II. Method of Collection

This information collected on the application is needed to competitively select faculty to participate in the 10 week Fellowship.

III. Data

Title: Exploration Systems Mission Directorate—Space Grant Consortia Faculty Project.

OMB Number: 2700-XXXX.

Type of review: New Collection.

Affected Public: Individuals or households.

Number of Respondents: 156.

Responses Per Respondent: 0.5 hour.

Annual Responses: 156.

Annual Burden Hours: 80.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Gary Cox,
Deputy Chief Information Officer (Acting).

[FR Doc. E7-15687 Filed 8-9-07; 8:45 am]

BILLING CODE 7510-13-P